DEPARTMENT OF HEALTH AND HUMAN SERVICES

Centers for Disease Control and Prevention

[Program Announcement 01018]

Health Promotion and Disease Prevention Initiatives Related to Chronic Disease Prevention and Health Promotion World Health Organization (WHO); Notice of Availability of Funds

A. Purpose

The Centers for Disease Control and Prevention (CDC) announces the availability of funds for fiscal year (FY) 2001 for a cooperative agreement for Health Promotion and Disease Prevention Initiatives Related to Chronic Disease Prevention and Health Promotion, World Health Organization (WHO) in the areas of research, dissemination of research findings, expertise and best practice information, and health promotion information related to noncommunicable disease, chronic diseases; mental health problems; and leading causes of death, disease and disability that can be significantly reduced through effective community and school health programs. WHO will function as a coordinating agency for a comprehensive research and dissemination effort related to international and country specific public health policy, surveillance system and prevention program development in the public health areas listed above for participating countries.

This program addresses the “Healthy People 2010,” priority areas of a national activity to reduce morbidity and mortality and to improve the quality of life. This announcement focuses on the priority areas of HIV Infection, Tobacco, Cancer Prevention, Physical Activity and Fitness, and Educational and Community-Based programs.

The purpose of this program announcement is to promote research, health promotion, and dissemination of expertise and information related to noncommunicable disease, chronic diseases; mental health problems; and leading causes of death, disease and disability that can be significantly reduced through effective community and school health programs.

B. Eligible Applicant

Assistance will be provided only to the World Health Organization (WHO). No other applications are solicited.

WHO is the only international/intergovernmental agency qualified to conduct and coordinate research and programmatic activities under this program announcement because:

1. WHO has a unique position among the world's health agencies as the technical agency for health within the United Nations.

2. WHO has access to all national health promotion and disease prevention programs and potential research sites through its six regional offices located in Washington, DC; Copenhagen, Denmark; Cairo, Egypt; Congo; Delhi, India; Harare, Zimbabwe and Manila, Philippines.

3. WHO is uniquely qualified to conduct and coordinate the research activities, policy and programmatic initiatives that have specific relevance to the objectives of this program announcement and which have the potential to advance knowledge that benefits the United States (U.S.).

4. WHO collaborates with other international organizations and works to accomplish its mission by coordinating research initiatives, disseminating information related to chronic disease program needs and services, recommends and advocates improved policies and programs, and provides consultation and guidance at the international, national, and local level for systems of coordinated care for persons with chronic or disabling conditions.

5. WHO also collaborates with other international organizations and works to accomplish its mission by coordinating research initiatives, disseminating information and expertise related to effective school health programs that significantly reduce the leading causes of death, disease and disability among youth (i.e., injuries, nutritional deficiencies that cause disease, tobacco use, HIV/AIDS and helminth infections). It recommends and advocates for improved school health policies and programs, and provides consultation and guidance at the international, national, and local level for effective school health programs to prevent serious health problems among youth.

6. WHO offers special opportunities for furthering research programs through the use of unique talent resources, populations, or environmental conditions in other countries that are not readily available in the U.S. or that provide augmentation of existing U.S. resources.

C. Availability of Funds

Approximately $1,459,000 will be available in FY 2001 to fund one award in the following projects of special interest:

It is expected that the award will begin on or about April 1, 2001, and will be made for a 12-month budget period within a project period of up to three years. The funding estimate may vary and is subject to change.

D. Where To Obtain Additional Information

Business management technical assistance may be obtained from: Cynthia R. Collins, Grants Management Specialist, Grants Management Branch, Procurement and Grants Office, Program Announcement 01018 Centers for Disease Control and Prevention (CDC), 2920 Brandywine Rd., Room 3000, Atlanta, GA. 30341-5539, Telephone: 770-488-2757, Internet address: coc9@cdc.gov.

For Program technical assistance may be obtained from:

Project 1: School Health Education and HIV Prevention may be obtained from Kenneth Rose. M.P.A., Program Analyst, Project Officer, Division of Adolescent and School Health, National Center for Chronic Disease Prevention and Health Promotion, Centers for Disease Control and Prevention (CDC), Mail Stop K-29, 4770 Buford Highway, NE., Atlanta, GA 30341, telephone (770) 488-3251, Email: krose@cdc.gov.

Project 2: Global Tobacco Control may be obtained from Samira Asma, D.D.S., M.P.H., Project Officer, Office of Smoking and Health, National Center for Chronic Disease Prevention and Health Promotion, Centers for Disease Control and Prevention (CDC), Mail Stop K-50, 4770 Buford Highway, NE., Atlanta, GA 30066, telephone (770) 488-5719, Internet address: sea5@cdc.gov.

Project 3: Physical Activity and Health may be obtained from Becky Lankenau, M.P.H, D.P.H, Project Officer, Division of Nutrition and Physical Activity, National Center for Chronic Disease Prevention and Health Promotion, Centers for Disease Control and Prevention (CDC), Mail Stop K-46, 4770 Buford Highway, NE., Atlanta, GA 30066, telephone (770) 488-5520, Internet address: bhl0@cdc.gov.

Project 4: Adult and Community Health may be obtained from James B. Holt, M.P.A., Deputy Director, Division of Adult and Community Health, National Center for Chronic Disease Prevention and Health Promotion, Centers for Disease Control and Prevention (CDC), Mail Stop K45, 4770 Buford Highway, NE., Atlanta, GA 30066, telephone (770) 488-5269, Internet address: jgh4@cdc.gov.

Dated: January 25, 2001.
John L. Williams,
Director, Procurement and Grants Office, Centers for Disease Control and Prevention (CDC).

[FR Doc. 01-2624 Filed 1-30-01; 8:45 am]

BILLING CODE 4163-18-P